DEPARTMENT OF HEALTH AND HUMAN SERVICES

Centers for Disease Control and Prevention

National Center for Health Statistics (NCHS), ICD-10 Coordination and Maintenance (C&M) Committee Meeting

AGENCY: Centers for Disease Control and Prevention (CDC), Department of Health and Human Services (HHS).

ACTION: Notice of meeting.

SUMMARY: The CDC, National Center for Health Statistics (NCHS), Classifications and Public Health Data Standards Staff, announces the following meeting of the ICD-10 Coordination and Maintenance (C&M) Committee meeting. This meeting is open to the public, limited only by audio and web conferences lines available. Online Registration is not required.

DATES: The meeting will be held on September 8, 2020, from 9:00 a.m. to 5:00 p.m., EDT, and September 9, 2020, from 9:00 a.m. to 5:00 p.m., EDT.

ADDRESSES: This is a virtual meeting. Information will be provided on each of our respective web pages when it becomes available. For CDC/NCHS https://www.cdc.gov/nchs/icd/icd10cm_maintenance.htm.

For CMS https://www.cms.gov/Medicare/Coding/ICD9ProviderDiagnosticCodes/meetings.

FOR FURTHER INFORMATION CONTACT: Traci Ramirez, Program Specialist, CDC, 3311 Toledo Road, Hyattsville, Maryland 20782, Telephone (301) 458-4454; TRamirez@cdc.gov.

SUPPLEMENTARY INFORMATION: Purpose: The ICD-10 Coordination and Maintenance (C&M) Committee is a public forum for the presentation of proposed modifications to the International Classification of Diseases, Tenth Revision, Clinical Modification and ICD-10 Procedure Coding System.

Matters To Be Considered: The tentative agenda will include discussions on ICD-10-CM and ICD-10-PCS topics listed below. Agenda items are subject to change as priorities dictate.

Please refer to the posted agenda for updates one month prior to the meeting.

ICD-10-PCS Topics

Vertebral Body Tethering

Removal of a Transplanted/Rejected Kidney

Isotope Administration

Administration of Lifileucel

Administration of Narsoplimab

Insertion of Implantable Bone Void Filler

Single-Use Duodenoscope

Administration of Immune Effector Cell Therapy

Spinal Stabilization

Administration of Idecabtagene Vicleucel (ide-cel)

Restriction of Coronary Sinus

Embolic Protection

ICD-10-CM Topics:

Complications of immune effector cellular (IEC) therapy

Endometriosis

Immune Effector Cell Associated Neurotoxicity Syndrome (ICANS) Addenda

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-16000 Filed 7-22-20; 8:45 am]

BILLING CODE 4163-18-P